DEPARTMENT OF LABOR

Employment and Training Administration

Comment Request for Information Collection for Work-Flex Plan Submission and Reporting Requirements; Extension With No Revisions

AGENCY: Employment and Training Administration (ETA), Labor.

ACTION: Notice.

SUMMARY: The Department of Labor, as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data about the Work Flex Plan Submission and Reporting Requirements. A copy of the proposed information collection request (ICR) can be obtained by contacting the office listed below in the addressee section of this notice.

DATES: Written comments must be submitted to the office listed in the addressee's section below on or before October 27, 2014.

ADDRESSES: Submit written comments to Heather Fleck, Division of WIA Adult Services and Workforce System, U.S. Department of Labor, 200 Constitution Avenue NW., Room S-4209, Washington, DC 20210, Telephone number: 202-693-2956 (this is not a toll-free number). Fax: 202-693-3015. Email: fleck.heather@dol.gov.

SUPPLEMENTARY INFORMATION:

I. Background

Section 192 of the Workforce Investment Act (WIA) (Pub. L. 105-220, August 7, 1998) permits states to apply for a workforce flexibility (Work-Flex) waiver authority to implement reforms to their workforce investment systems in exchange for program improvements. The Act provides that the Secretary may grant Work-Flex waiver authority for up to five years pursuant to a Work-Flex Plan submitted by a state. Under Work-Flex, governors are granted the authority to approve requests submitted by their local areas to waive certain statutory and regulatory provisions of WIA Title I programs. States may also request waivers from the Secretary of certain requirements of the Wagner-Peyser Act (Sections 8-10) as well as certain provisions of the Older Americans Act for state agencies that administer the Senior Community Service Employment Program (SCSEP). The intent of the Work-Flex provision is to provide states and local areas with operational flexibility to improve employment and training program productivity for adult, dislocated, and youth populations. One of the underlying principles for granting Work-Flex waivers is that the waivers will result in improved performance outcomes for persons served and that waiver authority will be granted in consideration of improved performance.

Section 190 of the Workforce Innovation and Opportunity Act (WIOA) (H.R. 803, July 22, 2014) includes similar provisions for States to submit Workforce Flexibility Plans. Many of WIOA's provisions take effect on July 1, 2015, but the existing WIA state and local plan provisions remain in effect until July 1, 2016. The Employment and Training Administration (ETA) is conducting a review of WIOA's implementation timeline and waiver provisions, and may amend this information collection as part of its implementation actions.

This information collection is submitted under the legal requirements of WIA, the law in effect at this time.

II. Work-Flex Plan Instructions

States requesting designation as a Work-Flex state must submit a Work-Flex Plan which includes descriptions of:

a. The process by which local areas in the state may submit and obtain approval by the state of applications for waivers of requirements applicable under Title I of WIA, including provisions for public review and comment on local area waiver applications.

b. The statutory and regulatory requirements of Title I that are likely to be waived by the state under the plan.

c. The requirements applicable under Sections 8-10 of the Wagner-Peyser Act that are proposed to be waived, if any.

d. The statutory and regulatory requirements of the Older Americans Act of 1965 applicable to state agencies on aging with respect to administration of the SCSEP that are proposed to be waived, if any.

e. The outcomes to be achieved by the waiver authority including, where appropriate, revisions to adjusted levels of performance included in the state or local Plans under Title I of WIA.

f. Special administrative measures (in addition to current procedures) to be taken to ensure appropriate accountability for Federal funds in connection with the waivers.

g. Prior to submitting a Work-Flex plan, the state must provide all interested parties and the general public adequate notice and a reasonable opportunity for comment on the waivers proposed to be implemented. The plan should describe the process used for ensuring meaningful public comment, including a description of the Governor's and the state Workforce Investment Board's involvement in drafting, reviewing and commenting.

III. Work-Flex Quarterly Report: Instructions

Report for each waiver granted:

1. Waiver (assigned by State)

2. Date received

3. Date granted

4. Local Area(s) requesting waiver

5. Purpose (brief statement)

6. Regulation/statute affected.

7. State-imposed conditions of waiver use, as appropriate.

IV. Review Focus

The Department of Labor is particularly interested in comments which:

* evaluate whether the proposed collection of information is necessary for the proper performance of the functions of the agency, including whether the information will have practical utility;

* evaluate the accuracy of the agency's estimate of the burden of the proposed collection of information, including the validity of the methodology and assumptions used;

* enhance the quality, utility, and clarity of the information to be collected; and

* minimize the burden of the collection of information on those who are to respond, including through the use of appropriate automated, electronic, mechanical, or other technological collection techniques or other forms of information technology, e.g., permitting electronic submissions of responses.

V. Current Actions

Type of Review: Extension with no revisions:

Title: Work-Flex Plan Submission and Reporting Requirements.

OMB Number: 1205-0432.

Affected Public: State and local governments.

Form: See above instructions. There is no form.

Total Estimated Annual Respondents: 5.

Estimates Annual Frequency: 5 state plans annually; 204 quarterly reports.

Average Time per Response: 38.4 hours.

Estimated Total Annual Burden Hours: 960.

Total Burden Cost (capital/startup): 0.

Total Burden Cost (operating/maintaining): 0.

Comments submitted in response to this comment request will be summarized and/or included in the request for Office of Management and Budget approval of the information collection request; they will also become a matter of public record.

Portia Wu,
Assistant Secretary for Employment and Training Administration, Labor.

[FR Doc. 2014-20249 Filed 8-25-14; 8:45 am]

BILLING CODE 4510-FN-P